DEPARTMENT OF THE INTERIOR

Bureau of Land Management

[18XL5017AP.LLWY920000.L51010000.ER0000.LVRWK09K0990; 4500119076]

Notice of Availability of Decision Record for the Gateway West Transmission Line Project and Approved Land Use Plan Amendments, Segments 8 and 9, Idaho; IDI-35849-01

AGENCY: Bureau of Land Management, Interior.

ACTION: Notice of availability.

SUMMARY: The Bureau of Land Management (BLM) announces the availability of the Decision Record (DR) for the Gateway West Transmission Line Project (Project) and Approved Land Use Plan Amendments for Segments 8 and 9. The Assistant Secretary—Land and Minerals Management (ASLM) signed the DR on March 30, 2018, which constitutes the final decision of the Department of the Interior and is not subject to appeal under Departmental regulations. Any challenge to this decision, including the BLM Authorized Officer's issuance of the right-of-way (ROW) as directed by this decision, must be brought in Federal district court within the timeframe allowed under Title 41 of the FAST Act (FAST-41).

DATES: The ASLM signed the DR on March 30, 2018.

ADDRESSES: Copies of the DR are available online at https://www.blm.gov/gatewaywest and at the BLM Idaho State Office, 1387 S Vinnell Way, Boise, ID 83709.

FOR FURTHER INFORMATION CONTACT: Jim Stobaugh, BLM Gateway West National Project Manager, telephone 775-861-6478; email jstobaug@blm.gov. Persons who use a telecommunications device for the deaf (TDD) may call the Federal Relay Service (FRS) at 1-800-877-8339 to leave a message or question for Mr. Stobaugh. The FRS is available 24 hours a day, 7 days a week. You will receive a reply during normal business hours.

SUPPLEMENTARY INFORMATION:

On May 7, 2007, PacificCorp (doing business as Rocky Mountain Power) and Idaho Power Company (Proponents) applied to the BLM for a ROW grant to build and operate portions of the Project on public lands in Wyoming and Idaho. The original project comprised 10 transmission line segments originating at the Windstar Substation near Glenrock, Wyoming, and terminating at the Hemingway Substation near Melba, Idaho, with a total length of approximately 1,000 miles. The BLM published a Final Environmental Impact Statement (EIS) for this project on April 26, 2013 and a Record of Decision (ROD) on November 14, 2013. In the ROD, the BLM deferred a decision on Segments 8 and 9 to allow additional time for Federal, state, and local permitting agencies to examine additional routing options, as well as potential mitigation and enhancement measures for these segments, in part, because Segments 8 and 9 involved resources in and near the Morley Nelson Snake River Birds of Prey National Conservation Area (NCA).

In August 2014, the Proponents submitted a revised ROW application for Segments 8 and 9 and a revised Plan of Development for the Project, which the BLM determined required additional environmental analysis through a Supplemental EIS (SEIS). On October 7, 2016, the BLM published a Final SEIS that analyzed 7 alternative ROW routes for Segments 8 and 9 and the Land Use Plan Amendments needed to accommodate each alternative route pair. The BLM issued a ROD on January 19, 2017, selecting the route described as Alternative 5 in the Final SEIS. The State of Idaho, Owyhee County, Idaho, and three environmental organizations appealed the BLM's ROW decision to the Interior Board of Land Appeals (IBLA). In a letter to the Secretary of the Interior, the Governor of Idaho requested that the BLM reconsider the January 19, 2017 decision and select an alternative with fewer impacts to State and county resources and communities. The Proponents also requested that the BLM reconsider the January 2017 decision and select the alternative proposed in their revised application, as more cost-effective and providing greater system reliability. On April 18, 2017, the IBLA granted the BLM's motion to remand the January 19, 2017, ROW decision for reconsideration.

On May 5, 2017, the Morley Nelson Snake River Birds of Prey National Conservation Area Boundary Modification Act (Modification Act) was enacted, which directed the BLM to issue a ROW grant to use public lands within the NCA as described in Sec. (b)(2) representing portions of the Project “in alignment with the revised proposed routes for Segments 8 and 9 identified as Alternative 1 in the Supplementary Final Environmental Impact Analysis released October 5, 2016.” The Modification Act also removed the lands affected by this ROW from NCA status and stipulated that the mitigation framework presented in the Final SEIS would apply to the authorized segments. The BLM offered this statutory ROW grant to the Proponents on July 26, 2017.

The BLM has prepared an Environmental Assessment (EA) (DOI-BLM-ID-0000-0002-EA) to analyze and document the environmental effects of an application from the Proponents for a ROW grant to use public lands for Segments 8 and 9 of the Project. The EA also analyzed the effects of amending three current BLM land use plans needed to ensure the ROW grant conformed to the plans:

Kuna Management Framework Plan (MFP);

Bennett Hills/Timmerman Hills MFP; and

1987 Jarbidge Resource Management Plan (for areas not covered by the 2015 Jarbidge RMP).

The BLM tiered to and incorporated by reference the analyses in the 2013 Final EIS and 2016 Final SEIS. The BLM prepared the EA in consultation with Cooperating Agencies and in accordance with the National Environmental Policy Act of 1969, as amended, the Federal Land Policy and Management Act of 1976, as amended, implementing regulations, the BLM Land Use Planning Handbook (H-1601-1), the BLM National Environmental Policy Act Handbook (H-1790-1), and other applicable law and policy.

Following the publication of a Notice of Intent to prepare an EA in the Federal Register, an opportunity for the public to comment on a Draft EA, and an opportunity for interested parties and the State of Idaho to protest a decision to amend land use plans as reflected in the EA and Finding of No New Significant Impact, the ASLM issued a Decision selecting Alternative 1 from the EA. The selected alternative authorizes a ROW grant to the Proponents for the portions of Segments 8 and 9 of the project that physically connect with the portions of those segments authorized by the Boundary Modification Act. It also includes the Toana Road Variation 1 as analyzed in the Final SEIS and amends the 1987 Jarbidge RMP and the Kuna and Bennett Hills/Timmerman Hills MFPs for BLM-managed public lands in the Jarbidge, Four Rivers and Shoshone Field Offices.

The ASLM's DR also incorporated, as terms and conditions of the ROW grant, environmental protection measures described in the EA, monitoring requirements, and measures to mitigate effects. In addition, the BLM has worked with the Proponents to develop the Mitigation Framework for the NCA (Final SEIS EIS Appendix K), which the Boundary Modification Act also stipulates will apply to the authorized segments.

My approval of this decision as the ASLM is not subject to administrative appeal under Departmental regulations at 43 CFR part 4 pursuant to 43 CFR 4.410(a)(3). Any challenge to this decision must be brought in Federal District Court and is subject to 42 U.S.C. 4370m-6(a)(1).

Authority: 40 CFR 1506.6; 42 U.S.C. 4370m-6(a)(1)

Joseph R. Balash,
Assistant Secretary—Land and Minerals Management.

[FR Doc. 2018-08808 Filed 4-25-18; 8:45 am]

BILLING CODE 4310-AK-P